DEPARTMENT OF COMMERCE

International Trade Administration

[A-570-909]

Certain Steel Nails From the People's Republic of China: Rescission of New Shipper Review

AGENCY: Import Administration, International Trade Administration, Department of Commerce.

DATES: Effective Date: July 1, 2010.

SUMMARY: In response to a request from Maanshan Leader Metal Products Co., Ltd. (“Maanshan Leader”), the Department of Commerce (the “Department”) published on September 25, 2009, a Federal Register notice announcing the initiation of a new shipper review of the antidumping duty order on certain steel nails from the People's Republic of China (“PRC”) covering the period of January 23, 2008, through July 31, 2009. On May 28, 2010, Maanshan Leader withdrew its request for a new shipper review. Therefore, we are rescinding this new shipper review with respect to Maanshan Leader.

FOR FURTHER INFORMATION CONTACT: Alexis Polovina, AD/CVD Operations, Office 9, Import Administration, International Trade Administration, U.S. Department of Commerce, 14th Street and Constitution Avenue, NW., Washington, DC 20230; telephone: (202) 482-3927.

SUPPLEMENTARY INFORMATION:

Background

On August 24, 2009, we received a timely request for a new shipper review from Maanshan Leader in accordance with 19 CFR 351.214(c) and 351.214(d)(2). On September 25, 2009, the Department found that the request for review with respect to Maanshan Leader met all of the regulatory requirements set forth in 19 CFR 351.214(b) and initiated an antidumping duty new shipper review. See Certain Steel Nails From the People's Republic of China: Initiation of Antidumping Duty New Shipper Review, 74 FR 48907 (September 25, 2009) (“Initiation Notice”). On February 12, 2010, due to the closure of the Federal Government from February 5, through February 12, 2010, the Department exercised its discretion to toll deadlines by seven days. See Memorandum to the Record from Ronald Lorentzen, DAS for Import Administration, “Tolling of Administrative Deadlines As a Result of the Government Closure During the Recent Snowstorm,” dated February 12, 2010.

On April 5, 2010, the Department aligned this new shipper review with the concurrent first administrative review. See Memorandum to the File from Alexis Polovina, Case Analyst, through Alex Villanueva, Program Manager, regarding: Alignment of New Shipper Review of Certain Steel Nails from the People's Republic of China with the 1th Administrative Review of Certain Steel Nails from the People's Republic of China, dated April 5, 2010. On May 28, 2010, Maanshan Leader withdrew its request for a new shipper review. On June 14, 2010, we placed on the record and served to parties a memorandum stating that the Department intended to rescind the above-referenced new shipper review, allowing parties to comment on the intended rescission by no later than June 17, 2010. See Memorandum to the File from Alexis Polovina, Case Analyst, through Alex Villanueva, Program Manager, regarding: Withdrawal of Request for NSR from Maanshan Leader, dated June 14, 2010. The Department did not receive comments from any party.

Rescission of New Shipper Review

19 CFR 351.214(f)(1) provides that the Department may rescind a new shipper review if the party that requested the review withdraws its request for review within 60 days of the date of publication of the notice of initiation of the requested review. Although Maanshan Leader withdrew its request after the 60 day deadline, we find it reasonable to extend the deadline. See 19 CFR 351.302(b). In this instance, no other company would be affected by a rescission, and we have received no objections from any party to Maanshan Leader's withdrawal of its request for this new shipper review. Based upon the above, we are rescinding the new shipper review of the antidumping duty order on certain steel nails from the PRC with respect to Maanshan Leader. See Hand Trucks and Certain Parts Thereof From the People's Republic of China: Notice of Rescission of Antidumping Duty New Shipper Review, 74 FR 31911 (July 6, 2009) (rescinding the new shipper review after the 60 day deadline). As the Department is rescinding this new shipper review, we are not calculating a company-specific rate for Maanshan Leader, and Maanshan Leader will remain part of the PRC entity in the ongoing administrative review.

Notifications

Because Maanshan Leader remains under review as part of the PRC entity in the ongoing administrative review, the Department will not order liquidation of entries for Maanshan Leader. The Department intends to issue liquidation instructions for the PRC entity, which will cover any entries by Maanshan Leader, 15 days after publication of the final results of the ongoing administrative review.

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as the only reminder to parties subject to administrative protective orders (APO) of their responsibility concerning the return or destructions of proprietary information disclosed under APO in accordance with 19 CFR 351.305(a). Timely written notification of the return/destruction of APO materials or conversion to judicial protective order is hereby requested. Failure to comply with the regulations and terms of an APO is a violation which is subject to sanction.

We are issuing and publishing this determination and notice in accordance with section 777(i) of the Act and 19 CFR 351.214(f)(3).

Dated: June 25, 2010.
John M. Andersen,
Acting Deputy Assistant Secretary for Antidumping and Countervailing Duty Operations.

[FR Doc. 2010-16093 Filed 6-30-10; 8:45 am]

BILLING CODE 3510-DS-P